DEPARTMENT OF COMMERCE

International Trade Administration

Antidumping or Countervailing Duty Order, Finding, or Suspended Investigation; Amended Advance Notification of Sunset Reviews

AGENCY: Import Administration, International Trade Administration, Department of Commerce.

SUMMARY: This is an amendment to the notice of Antidumping or Countervailing Duty Order, Finding, or Suspended Investigation; Advance Notification of Sunset Reviews, 71 FR 37901 (July 3, 2006) (Advance Notification).

EFFECTIVE DATE: July 24, 2006.

FOR FURTHER INFORMATION CONTACT: Zev Primor, Office 4, AD/CVD Operations, Import Administration, International Trade Administration, U.S. Department of Commerce, 14th Street and Constitution Avenue, NW, Washington DC 20230; telephone (202) 482-4114.

SUPPLEMENTARY INFORMATION:

Background

On July 3, 2006, the Department of Commerce (“the Department”) published in the Federal Register a list of sunset reviews scheduled for initiation in August 2006. (See Advanced Notification). We are amending the advanced sunset Federal Register notice because we have determined that early initiation of the sunset reviews for all of the Certain Hot-Rolled Carbon Steel Flat Products orders would promote administrative efficiency.

Upcoming Sunset Reviews for August 2006

The following Sunset Reviews are scheduled for initiation in August 2006 and will appear in that month's Notice of Initiation of Five-Year Sunset Reviews.

Antidumping Duty Proceedings | Department Contact
Foundry Coke from the PRC (A-570-862) | Jim Nunno (202) 482-0783
Solid Agricultural Grade Ammonium Nitrate from Ukraine (A-823-810) | Brandon Farlander (202) 482-0182
Certain Hot-Rolled Carbon Steel Flat Products from Argentina (A-357-814) | Zev Primor (202) 482-4114
Certain Hot-Rolled Carbon Steel Flat Products from the PRC (A-570-865) | Jim Nunno (202) 482-0783
Certain Hot-Rolled Carbon Steel Flat Products from India (A-533-820) | Zev Primor (202) 482-4114
Certain Hot-Rolled Carbon Steel Flat Products from Indonesia(A-560-812) | Zev Primor (202) 482-4114
Certain Hot-Rolled Carbon Steel Flat Products from Kazakhstan (A-834-806) | Dana Mermelstein (202) 482-1391
Certain Hot-Rolled Carbon Steel Flat Products from the Netherlands (A-421-807) | Dana Mermelstein (202) 482-1391
Certain Hot-Rolled Carbon Steel Flat Products from Romania (A-485-806) | Zev Primor (202) 482-4114
Certain Hot-Rolled Carbon Steel Flat Products from South Africa (A-791-809) | Dana Mermelstein (202) 482-1391
Certain Hot-Rolled Carbon Steel Flat Products from Taiwan (A-583-835) | Dana Mermelstein (202) 482-1391
Certain Hot-Rolled Carbon Steel Flat Products from Thailand (A-549-817) | Dana Mermelstein (202) 482-1391
Certain Hot-Rolled Carbon Steel Flat Products from Ukraine (A-823-811) | Dana Mermelstein (202) 482-1391
Steel Concrete Reinforcing Bars from Belarus (A-822-804) | Brandon Farlander (202) 482-0182
Steel Concrete Reinforcing Bars from the PRC (A-570-860) | Brandon Farlander (202) 482-0182
Steel Concrete Reinforcing Bars from Indonesia (A-560-811) | Brandon Farlander (202) 482-0182
Steel Concrete Reinforcing Bars from Latvia (A-449-804) | Brandon Farlander (202) 482-0182
Steel Concrete Reinforcing Bars from Moldova (A-841-804) | Brandon Farlander (202) 482-0182
Steel Concrete Reinforcing Bars from Poland (A-455-803) | Brandon Farlander (202) 482-0182
Steel Concrete Reinforcing Bars from South Korea (A-580-844) | Brandon Farlander (202) 482-0182
Steel Concrete Reinforcing Bars from Ukraine (A-823-809) | Brandon Farlander (202) 482-0182
Countervailing Duty Proceedings
Certain Hot-Rolled Carbon Steel Flat Products from Argentina (C-357-815) | Brandon Farlander (202) 482-0182
Certain Hot-Rolled Carbon Steel Flat Products from India (C-533-821) | Brandon Farlander (202) 482-0182
Certain Hot-Rolled Carbon Steel Flat Products from Indonesia (C-560-813) | Brandon Farlander (202) 482-0182
Certain Hot-Rolled Carbon Steel Flat Products from South Africa(C-791-810) | Dana Mermelstein (202) 482-1391
Certain Hot-Rolled Carbon Steel Flat Products from Thailand (C-549-818) | Dana Mermelstein (202) 482-1391
Suspended Investigations
No suspended investigations are scheduled for initiation in August 2006.

This notice is not required by statute but is published as a service to the international trading community.

Dated: July 18, 2006.
Thomas F. Futtner,
Acting Director, AD/CVD Operations, Office 4,Import Administration.

[FR Doc. E6-11745 Filed 7-21-06; 8:45 am]

BILLING CODE 3510-DS-S